DEPARTMENT OF TRANSPORTATION

Federal Aviation Administration

TSO-C77b, Gas Turbine Auxiliary Power Units

AGENCY: Federal Aviation Administration, DOT.

ACTION: Notice of availability of technical standard order.

SUMMARY: This notice announces the availability of Technical Standard Order (TSO) C77b. This TSO prescribes the minimum performance standards that gas turbine auxiliary power units (APUs), commonly used in commercial aircraft, must meet in order to be identified with the TSO marking.

EFFECTIVE DATE: January 22, 2001.

FOR FURTHER INFORMATION CONTACT: Mr. Mark A. Rumizen, Engine and Propeller Standards Staff, ANE-110, Engine and Propeller Directorate, Federal Aviation Administration, 12 New England Executive Park, Burlington, MA 01803-5299, telephone (781) 238-7113, fax (781) 238-7199.

SUPPLEMENTARY INFORMATION:

Background

The standards of this TSO will apply to all APUs used for any new application submitted after the effective date of this TSO. APUs currently approved under TSO-C77 or TSO-C77a authorization may continue to be manufactured under the provisions of their original approval. However, under § 21.611(b) of the Federal Aviation Regulations, any major design change to an APU previously approved under TSO-C77 or TSO-C77a would require a new authorization under this TSO. The general layout of this document complies with the updated TSO format.

How To Obtain Copies

A copy of the TSO-C77b may be obtained via Internet (http:/www.faa.gov/avr/air/air100/100home.htm) or by request from the office listed under FOR FURTHER INFORMATION CONTACT.

Issued in Burlington, Massachusetts on December 20, 2000.
David A. Downey,
Assistant Manager, Engine and Propeller Directorate Aircraft Certification Service.

[FR Doc. 01-1858 Filed 1-19-01; 8:45 am]

BILLING CODE 4910-13-M